FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 12, 2001.

A. Federal Reserve Bank of St. Louis (Randall C. Sumner, Vice President) 411 Locust Street, St. Louis, Missouri 63166-2034:

1. Stephen Chandlee Davis, Little Rock, Arkansas; to retain voting shares of Riverside Bancshares, Inc., Little Rock, Arkansas, and thereby indirectly retain voting shares of Riverside Bank, Little Rock, Arkansas.

B. Federal Reserve Bank of Minneapolis (JoAnne F. Lewellen, Assistant Vice President) 90 Hennepin Avenue, Minneapolis, Minnesota 55480-0291:

1. Wayne Edsall Trust No. 2 (trustee Wayne Edsall), Bozeman, Montana; to acquire additional voting shares of Inter-Mountain Bancorp, Inc., Bozeman, Montana, and thereby indirectly acquire additional voting shares of First State Bank of Fort Benton, Fort Benton, Montana, and First Security Bank, Bozeman, Montana.

Board of Governors of the Federal Reserve System, September 24, 2001.
Robert deV. Frierson,
Deputy Secretary of the Board.

[FR Doc. 01-24276 Filed 9-27-01; 8:45 am]

BILLING CODE 6210-01-S